ENVIRONMENTAL PROTECTION AGENCY

40 CFR Part 63

[FRN-7539-6]

RIN 2060-AK71

Amendments to Project XL Site-Specific Rulemaking for Georgia-Pacific Corporation's Facility in Big Island, VA

AGENCY: Environmental Protection Agency (EPA).

ACTION: Proposed rule.

SUMMARY: EPA is publishing this site-specific rule to implement a project under the Project eXcellence and Leadership (Project XL) program, an EPA initiative which encourages regulated entities to achieve better environmental results at decreased costs at their facilities. EPA is taking direct final action to amend a site-specific rulemaking for the Georgia-Pacific Corporation facility in Big Island, Virginia. The amendments concern revision of a compliance date for certain combustion sources at the facility that are subject to a hazardous air pollutant standard. EPA is proposing these amendments to accommodate delay in construction of the first commercial scale installation of black liquor gasification in the United States.

In the “Rules and Regulations” section of today's Federal Register, EPA is issuing the amendments as a direct final rule without prior proposal because we view this as a noncontroversial revision and anticipate no adverse comment. We have explained our reasons for the amendments in the preamble to the direct final rule. If EPA receives no adverse comment, we will not take further action on this proposal. If EPA receives adverse comment, we will withdraw the direct final rule and it will not take effect. EPA will address all public comments in a subsequent final rule based on this proposed rule. We will not institute a second comment period on this action. Any parties interested in commenting must do so at this time.

DATES: Comments on this rulemaking must be received on or before September 4, 2003. All comments should be submitted in writing or electronically according to the directions below in the SUPPLEMENTARY INFORMATION section.

Public Hearing. Commenters may request a public hearing no later than August 19, 2003. Commenters requesting a public hearing should specify the basis for their request. If EPA determines that there is sufficient reason to hold a public hearing, it will be held on September 8, 2003, at 10 a.m. Requests to present oral testimony must be made by August 25, 2003. Persons interested in requesting a hearing, attending a hearing, or presenting oral testimony at a hearing should call Mr. David Beck at (919) 541-5421.

ADDRESSES: To make comments by mail, send (two) 2 copies of your comments to the Air and Radiation Docket and Information Center, Environmental Protection Agency, Mailcode: 6102T, 1200 Pennsylvania Ave., NW., Washington, DC, 20460, Attention Docket ID No. A-2002-0072. Comments also may be submitted electronically, or through hand delivery/courier. Follow the detailed instructions as provided in I.C. of the SUPPLEMENTARY INFORMATION section in the related direct final action that is located in the “Rules and Regulations” section of this Federal Register.

If a public hearing is held, it will take place at the Big Island Elementary School, 1114 Schooldays Road, Big Island, Virginia.

FOR FURTHER INFORMATION CONTACT: Mr. David Beck, Office of Environmental Policy Innovation (E-143-02), U.S. EPA, Research Triangle Park, NC 27711. Mr. Beck can be reached at (919) 541-5421 (or by e-mail at: beck.david@epa.gov). Further information on today's action may also be obtained on the World Wide Web at http://www.epa.gov/projectxl/.

SUPPLEMENTARY INFORMATION: This document concerns an “Amendment to Project XL Site-Specific Rulemaking for Georgia-Pacific Corporation's Facility in Big Island, Virginia.” For further information, please see the related direct final action that is located in the “Rules and Regulations” section of this Federal Register publication.

Dated: July 28, 2003.
Marianne L. Horinko,
Acting Administrator.

[FR Doc. 03-19920 Filed 8-4-03; 8:45 am]

BILLING CODE 6560-50-P